Title 3—

The President

Proclamation 10576 of May 11, 2023

Military Spouse Appreciation Day, 2023

By the President of the United States of America

A Proclamation

The English poet John Milton wrote, “They also serve who only stand and wait.” Today, we honor the nearly one million military spouses who serve and strengthen our Nation alongside their loved ones in uniform. While navigating the many demands of life in a military family, they remain strong, caring, and resourceful—representing the very best of who we are as Americans.

Like our service members, military spouses know what it means to make sacrifices for our values and freedoms—stepping up every day to shoulder the unique burdens that come with military life. They selflessly care for others, often balancing their responsibilities at home and work while praying that their spouse returns home safely. They bring their diverse talents to all sectors to provide for their families and communities, even in the face of demanding and difficult circumstances. They strive to make birthdays and holidays special, even when there is an empty seat at the dinner table. And during some of life's toughest moments, military spouses are there for each other—forging lasting friendships grounded in support, service, and selflessness.

Our Nation has many obligations, but we have only one truly sacred obligation: to prepare those we send into harm's way and to care for them and their families while they are deployed and when they return home—including our military spouses. My Administration is working to ensure we meet this obligation, including through the First Lady's Joining Forces initiative, which is committed to supporting military and veteran families, caregivers, and survivors. We have broadened pathways to Federal careers for military spouses and started a new program to connect military spouses with private sector employers through paid fellowships. We have expanded scholarship opportunities for many military spouses so they can get professional licenses, certificates, or associate degrees and find good jobs. We are broadening parental leave for service members and increasing access to affordable and dependable child care—including making it easier to save for child care and working to make pre-kindergarten universal at all Department of Defense Education Activity Schools. And as we continue working to ensure military spouses have the resources they need to thrive in all aspects of life, we call upon more communities to hire and support military spouses, harnessing their unique skills, strengths, and experiences.

We have asked so much of our military spouses for so long. Yet every time Jill and I meet with spouses, we are struck by their extraordinary commitment and fortitude. They are the solid steel spine that bears up under every burden and the courageous heart that rises to every challenge, even while their service and sacrifice too often go unsung. Today we pause to lift up their stories, invest in their abilities, and ensure they have the support they need to achieve their aspirations. May God bless our military spouses and families, and may God protect our troops.

NOW, THEREFORE, I, JOSEPH R. BIDEN JR., President of the United States of America, by virtue of the authority vested in me by the Constitution and the laws of the United States, do hereby proclaim May 12, 2023, as Military Spouse Appreciation Day. I call upon the people of the United States to honor military spouses with appropriate ceremonies and activities.

IN WITNESS WHEREOF, I have hereunto set my hand this eleventh day of May, in the year of our Lord two thousand twenty-three, and of the Independence of the United States of America the two hundred and forty-seventh.

[FR Doc. 2023-10540

Filed 5-15-23; 8:45 am]

Billing code 3395-F3-P